DEPARTMENT OF HOMELAND SECURITY

Coast Guard

33 CFR Part 117

[Docket No. USCG-2018-0972]

Drawbridge Operation Regulation; Elizabeth River—Eastern Branch, Norfolk, VA

AGENCY: Coast Guard, DHS.

ACTION: Notice of deviation from drawbridge regulation.

SUMMARY: The Coast Guard has issued a temporary deviation from the operating schedule that governs the Berkley (U.S. 460/S.R. 337) Bridge across the Elizabeth River—Eastern Branch, mile 0.4, at Norfolk, VA. The deviation is necessary to allow the bridge to remain in the closed-to-navigation position to facilitate testing of the emergency drive motors.

DATES: This deviation is effective from 2:30 a.m. to 6 a.m. on October 28, 2018.

ADDRESSES: The docket for this deviation, [USCG-2018-0972], is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch Fifth District, Coast Guard; telephone (757) 398-6587, email Mickey.D.Sanders2@uscg.mil.

SUPPLEMENTARY INFORMATION: The Virginia Department of Transportation, who owns and operates the Berkley (U.S. 460/S.R. 337) Bridge across the Elizabeth River—Eastern Branch, mile 0.4, at Norfolk, VA, has requested a temporary deviation from the current operating regulation set out in 33 CFR 117.1007(b), to facilitate testing of the emergency drive motor on both spans of the bridge.

Under this temporary deviation, the bridge will remain in the closed-to-navigation position from 2:30 a.m. to 6 a.m. on October 28, 2018. The drawbridge has two spans, each with double-leaf bascule draws, and both spans have a vertical clearance in the closed-to-navigation position of 48 feet above mean high water.

The Elizabeth River—Eastern Branch is transited by recreational vessels, tug and barge traffic, fishing vessels, and small commercial vessels. The Coast Guard has carefully considered the nature and volume of vessel traffic on the waterway in publishing this temporary deviation.

Vessels able to pass through the bridges in the closed position may do so at any time. The bridge spans will not be able to open in case of an emergency and there is no immediate alternate route for vessels to pass. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: October 19, 2018.
Hal R. Pitts,
Bridge Program Manager, Fifth Coast Guard District.

[FR Doc. 2018-23319 Filed 10-24-18; 8:45 am]

BILLING CODE 9110-04-P